ENVIRONMENTAL PROTECTION AGENCY

[FRL-OW-7633-4]

Notice of Availability of Draft Aquatic Life Criteria Document for Copper and Request for Scientific Views; Reopening the Period To Submit Scientific Views

AGENCY: Environmental Protection Agency (EPA).

ACTION: Notice of availability and request for scientific views; reopening the period to submit scientific views.

SUMMARY: Due to requests from the public, EPA is reopening the period for submitting scientific views on the draft document containing updated aquatic life criteria for copper. EPA announced the availability of the draft criteria on December 31, 2003 (68 FR 75552). The period for submission of scientific views ended on March 1, 2004. Today, the Agency is reopening the period to submit scientific views for an additional 30 days.

DATES: EPA will accept scientific views on the 2003 Draft Updated of Ambient Water Quality Criteria for Copper document on or before April 8, 2004.

ADDRESSES: Scientific views may be submitted electronically, by mail or through hand-delivery/courier. Follow the detailed instructions as provided in Section I.C. of the SUPPLEMENTARY INFORMATION section of the December 31, 2003, Federal Register. Electronic files may be e-mailed to: OW-Docket@epa.gov. Scientific views may be mailed to the Water Docket, Environmental Protection Agency, Mail Code: 4101T, 1200 Pennsylvania Avenue, NW., Washington, DC 20460, Attention Docket ID No. OW-2003-0079. Instructions for couriers and other hand delivery are provided in section I.C.3 of the December 31, 2003, Federal Register. The Agency will not accept facsimiles (faxes).

FOR FURTHER INFORMATION CONTACT: Cindy Roberts, Health and Ecological Criteria Division (4304T), U.S. EPA, Ariel Rios Building, 1200 Pennsylvania Ave., NW., Washington, DC, 20460; (202) 566-1124; roberts.cindy@epa.gov.

SUPPLEMENTARY INFORMATION:

I. What Are Water Quality Criteria?

Water quality criteria are scientifically-derived concentrations of a pollutant that protect aquatic life or human health from the harmful effects of pollutants in ambient water. Section 304(a)(1) of the Clean Water Act requires EPA to develop and publish and, from time to time, revise criteria for water quality to accurately reflect the latest scientific knowledge. Water quality criteria developed under section 304(a) are based solely on data and scientific judgments on the relationship between pollutant concentrations and environmental and human health effects. Section 304(a) criteria do not consider economic impacts or the technological feasibility of meeting the chemical concentrations in ambient water. Section 304(a) criteria help States and authorized Tribes adopt water quality standards that ultimately provide a basis for controlling discharges or releases of pollutants. The criteria also help EPA promulgate federal regulations under section 303(c) when such action is necessary.

Once established, an EPA water quality criterion does not substitute for the CWA or EPA regulations; nor is it a regulation. It cannot impose legally binding requirements on the EPA, States, authorized Tribes or the regulated community. State and Tribal decision-makers have the discretion to adopt approaches that differ from EPA's guidance on a case-by-case basis.

II. Why Is EPA Reopening the Period for Request of Scientific Views?

On December 31, 2003, EPA published a Federal Register notice (68 FR 75552) announcing the availability and requesting scientific views on the updated criteria in the 2003 Draft Update of Ambient Water Quality for Copper document and on the application of the biotic ligand model (BLM) used to derived the fresh water criteria. EPA received requests to extend the period for submission of scientific views on these documents. In order to give the public enough time to review, EPA is reopening the period to submit scientific views.

To submit your scientific views, or access the official docket, please follow the detailed instructions as provided in the SUPPLEMENTARY INFORMATION section of the December 31, 2003 Federal Register (68 FR 75552). If you have any questions, consult the person listed under the FOR FURTHER INFORMATION CONTACT section of this notice.

Dated: March 4, 2004.
Benjamin H. Grumbles,
Acting Assistant Administrator, Office of Water.

[FR Doc. 04-5288 Filed 3-8-04; 8:45 am]

BILLING CODE 6560-50-P